DEPARTMENT OF LABOR

Employment and Training Administration

[TA-W 54,444]

Irving Forest Products, Inc., Pinkham Lumber Mill, Ashland, ME; Notice of Termination of Investigation

Pursuant to section 221 of the Trade Act of 1974, as amended, an investigation was initiated on March 8, 2004, in response to a petition filed by a representative of the Paper, Allied-Industrial, Chemical & Energy Workers International Union, Local 1-1310 on behalf of workers at Irving Forest Products, Inc., Pinkham Lumber Mill, Ashland, Maine.

The petitioner has requested that the petition be withdrawn. Consequently, the investigation has been terminated.

Signed in Washington, DC, this 8th day of July, 2004.
Richard Church,
Certifying Officer, Division of Trade Adjustment Assistance.

[FR Doc. 04-16769 Filed 7-22-04; 8:45 am]

BILLING CODE 4510-23-P